FEDERAL COMMUNICATIONS COMMISSION

47 CFR Part 73

[DA 19-588]

Radio Broadcasting Services; Various Locations

AGENCY: Federal Communications Commission.

ACTION: Final rule.

SUMMARY: This document amends the FM Table of Allotments, of the Commission's rules, by reinstating certain vacant FM allotments. These FM allotments are considered vacant because of the cancellation of the associated authorizations and licenses, or the dismissal of long-form auction applications. Theses vacant FM allotments have previously undergone notice and comment rule making. Reinstatement of the vacant allotments is merely a ministerial action to effectuate licensing procedures. Therefore, we find for good cause that further notice and comment are unnecessary.

DATES: Effective September 3, 2019.

FOR FURTHER INFORMATION CONTACT: Rolanda F. Smith, Media Bureau, (202) 418-2700.

SUPPLEMENTARY INFORMATION: This is a synopsis of the Commission's Order, adopted June 24, 2019 and released June 25, 2019. The full text of this Commission decision is available for inspection and copying during normal business hours in the FCC's Reference Information Center at Portals II, CY-A257, 445 12th Street SW, Washington, DC 20554. The full text is also available online at http://apps.fcc.gov/ecfs/. This document does not contain information collection requirements subject to the Paperwork Reduction Act of 1995, Public Law 104-13. The Commission will not send a copy of the Order in a report to be sent to Congress and the Government Accountability Office pursuant to the Congressional Review Act, see 5 U.S.C. 801(a)(1)(A) because the Order is a ministerial action.

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.202(b), the table is amended as follows:

a. Under Alabama by adding Camden, Channel 230A, Maplesville, Channel 292A, and Thomaston, Channel 280C3, in alphabetical order;

b. Under Alaska by adding Kotzebue, Channel 280A, and Yakutat, Channel 280A, in alphabetical order;

c. Under Arizona by adding Salome, Channel 231A, in alphabetical order;

d. Under California by adding Cartago, Channel 233A, Coalinga, Channel 247B1, Earlimart, Channel 228A, and Ludlow, Channel 261B1, in alphabetical order;

e. Under Colorado by adding Dotsero, Channel 261A, in alphabetical order;

f. Under Florida by adding Fort Walton Beach, Channel 295A, in alphabetical order;

g. Under Georgia by adding Pembroke, Channel 257C1, in alphabetical order;

h. Under Iowa by adding Dunkerton, Channel 280A, and Rockford, Channel 225A, in alphabetical order;

i. Under Louisiana by adding Oil City, Channel 285A, in alphabetical order;

j. Under Michigan by adding Carney, Channel 260A, and Pigeon, Channel 267A, in alphabetical order;

k. Under Mississippi by adding McLain, Channel 245A, New Albany, Channel 268A, and New Augusta, Channel 269A, in alphabetical order;

l. Under Montana by adding Valier, Channel 289C1, in alphabetical order;

m. Under Nevada by adding Tonopah, Channel 224A, in alphabetical order;

n. Under New Hampshire by adding Stratford, Channel 254A, in alphabetical order;

o. Under New Mexico by adding Chama, Channel 241C3, and Lovington, Channel 269C3, in alphabetical order;

p. Under New York by adding Livingston Manor, Channel 296A, in alphabetical order;

q. Under North Dakota by adding Gackle, Channel 256C1, in alphabetical order;

r. Under Texas by revising the entries for Carrizo Springs and Groom;

s. Under Utah by adding Huntington, Channel 287C3, in alphabetical order; and

t. Under Wyoming by adding Albin, Channel 282C3, Manville, Channel 255C1, Medicine Bow, Channel 259C3, Rawlins, Channel 298C2, Rozet, Channel 256C3, and Wamsutter, Channel 285A, in alphabetical order, and revising the entry for Wheatland.

The additions and revisions read as follows:

§ 73.202 Table of Allotments.

* * * * *

(b) * * *

Table 1 to Paragraph (b)
| Channel No.
Alabama
Camden | 230A
Maplesville | 292A
Thomaston | 280C3
* * * * *
Alaska
Kotzebue | 280A
Yakutat | 280A
Arizona
* * * * *
Salome | 231A
* * * * *
California
* * * * *
Cartago | 233A
* * * * *
Coalinga | 247B1
* * * * *
Earlimart | 228A
* * * * *
Ludlow | 261B1
* * * * *
Colorado
* * * * *
Dotsero | 261A
* * * * *
Florida
* * * * *
Fort Walton Beach | 295A
* * * * *
Georgia
* * * * *
Pembroke | 257C1
* * * * *
Iowa
* * * * *
Dunkerton | 280A
* * * * *
Rockford | 225A
* * * * *
Louisiana
* * * * *
Oil City | 285A
* * * * *
Michigan
Carney | 260A
* * * * *
Pigeon | 267A
* * * * *
Mississippi
* * * * *
McLain | 245A
* * * * *
New Albany | 268A
New Augusta | 269A
* * * * *
Montana
* * * * *
Valier | 289C1
* * * * *
Nevada
* * * * *
Tonopah | 224A
New Hampshire
* * * * *
Stratford | 254A
* * * * *
New Mexico
* * * * *
Chama | 241C3
* * * * *
Lovington | 269C3
* * * * *
New York
* * * * *
Livingston Manor | 296A
* * * * *
North Dakota
Gackle | 256C1
* * * * *
Texas
* * * * *
Carrizo Springs | 228A, 295A
* * * * *
Groom | 223A, 273A
* * * * *
Utah
Huntington | 287C3
* * * * *
Wyoming
Albin | 282C3
* * * * *
Manville | 255C1
* * * * *
Medicine Bow | 259C3
* * * * *
Rawlins | 298C2
Rozet | 256C3
Wamsutter | 285A
Wheatland | 286A, 293A
* * * * *

[FR Doc. 2019-16223 Filed 8-30-19; 8:45 am]

BILLING CODE 6712-01-P